DEPARTMENT OF HEALTH AND HUMAN SERVICES

[Document Identifier: OS-4040-0012]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before January 5, 2022.

ADDRESSES: Written comments and recommendations for the proposed information collection should be sent within 30 days of publication of this notice to www.reginfo.gov/public/do/PRAMain . Find this particular information collection by selecting “Currently under 30-day Review—Open for Public Comments” or by using the search function.

FOR FURTHER INFORMATION CONTACT: Sagal Musa, sagal.musa@hhs.gov or (202) 205-2634. When submitting comments or requesting information, please include the document identifier 4040-0012-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collections: SF-270 Request for Advance or Reimbursement.

Type of Collection: Reinstatement without change.

OMB No. 4040-0012.

Abstract: The SF-270 Request for Advance or Reimbursement form is used by grant awardees to request financial assistance funds for the purpose of reimbursement or for advance of funds. The IC expired on 01/31/2019. We are seeking reinstatement without change of this information collection and a three-year clearance.

Estimated Annualized Burden Table
Type of respondent | Number of respondents | Number responses per respondent | Average burden per response (in hours) | Total burden hours
SF-270 Request for Advance or Reimbursement | 100,000 | 1 | 1 | 100,000
Total | 100,000 | 1 | 1 | 100,000

Sherrette A. Funn,
Paperwork Reduction Act Reports Clearance Officer, Office of the Secretary.

[FR Doc. 2021-26347 Filed 12-3-21; 8:45 am]

BILLING CODE 4151-AE-P